DEPARTMENT OF COMMERCE

Foreign-Trade Zones Board

[B-17-2025]

Foreign-Trade Zone (FTZ) 144, Notification of Proposed Production Activity; Corteva Agriscience, LLC; (Crop Protection Products); Valdosta, Georgia

Corteva Agriscience, LLC, submitted a notification of proposed production activity to the FTZ Board (the Board) for its facilities in Valdosta, Georgia within Subzone 144A. The notification conforming to the requirements of the Board's regulations (15 CFR 400.22) was received on March 14, 2025.

Pursuant to 15 CFR 400.14(b), FTZ production activity would be limited to the specific foreign-status material(s)/component(s) and specific finished product(s) described in the submitted notification (summarized below) and subsequently authorized by the Board. The benefits that may stem from conducting production activity under FTZ procedures are explained in the background section of the Board's website—accessible via www.trade.gov/ftz. The proposed finished products would be added to the production authority that the Board previously approved for the operation, as reflected on the Board's website.

The proposed finished products include: formulated methoxyfenozide insecticide; formulated chlorantraniliprole insecticide; formulated fluazaindolizine nematicide; formulated methoxyfenozide-spineatoram insecticide; formulated oxamyl insecticide; formulated picoxystrobin fungicide; formulated picoxystrobin-cyproconazole fungicide; formulated penthiopyrad fungicide; formulated fenbuconazole fungicide; formulated famoxadone-oxathiapiprolin fungicide; formulated prothioconazole-picoxystrobin fungicide; formulated picoxystrobin-oxathiapiprolin fungicide; formulated oxathiapiprolin fungicide; and, formulated florylpicoxamid-pyraclostrobin fungicide (duty rates—5% or 6.5%).

Public comment is invited from interested parties. Submissions shall be addressed to the Board's Executive Secretary and sent to: ftz@trade.gov. The closing period for their receipt is May 5, 2025.

A copy of the notification will be available for public inspection in the “Online FTZ Information System” section of the Board's website.

For further information, contact Diane Finver at Diane.Finver@trade.gov.

Dated: March 20, 2025.
Elizabeth Whiteman,
Executive Secretary.

[FR Doc. 2025-05094 Filed 3-25-25; 8:45 am]

BILLING CODE 3510-DS-P